DEPARTMENT OF HEALTH AND HUMAN SERVICES

Food and Drug Administration

Dermatologic and Ophthalmic Drugs Advisory Committee; Notice of Meeting; Correction

AGENCY: Food and Drug Administration, HHS.

ACTION: Notice; correction.

SUMMARY: The Food and Drug Administration (FDA) is correcting a notice that appeared in the Federal Register of October 19, 2000 (65 FR 62722). The notice announced a meeting of the Dermatologic and Ophthalmic Drugs Advisory Committee, which was scheduled for November 16, 2000. The document was published with an error. This document corrects that error.

FOR FURTHER INFORMATION CONTACT: Anita Prout, Committee Management Office (HFA-306), Food and Drug Administration, 5600 Fishers Lane, Rockville, MD 20857, 301-827-5503.

SUPPLEMENTARY INFORMATION: In FR Doc. 00-26787, appearing on page 62722 in the Federal Register of Thursday, October 19, 2000, the following correction is made:

1. On page 62722, in the first column, under the “Location” caption, “Holiday Inn, Grand Ballroom, Two Montgomery Village Ave., Gaithersburg, MD.” is corrected to read “CDER Advisory Committee, conference room 1066, 5630 Fishers Lane, Rockville, MD.”

Dated: October 31, 2000.
Linda A. Suydam,
Senior Associate Commissioner.

[FR Doc. 00-28349 Filed 11-01-00; 2:45 pm]

BILLING CODE 4160-01-F